DEPARTMENT OF LABOR

Occupational Safety and Health Administration

[Docket No. OSHA-2011-0065]

National Advisory Committee on Occupational Safety and Health (NACOSH)

AGENCY: Occupational Safety and Health Administration (OSHA), Labor.

ACTION: Announcement of meetings of the National Advisory Committee on Occupational Safety and Health (NACOSH) and NACOSH subgroups.

SUMMARY: The National Advisory Committee on Occupational Safety and Health (NACOSH) will meet June 22, 2011, in Washington, DC. In conjunction with the committee meeting, NACOSH subgroups will meet on June 21, 2011.

DATES: NACOSH Meeting: NACOSH will meet from 9 a.m. to 4:30 p.m., Wednesday, June 22, 2011.

NACOSH Subgroup Meetings: The NACOSH subgroups will meet from 11 a.m. to 5 p.m., Tuesday, June 21, 2011.

Submission of Comments, Requests to Speak, Speaker Presentations, and Requests for Special Accommodation: Comments, requests to speak at the NACOSH meeting, speaker presentations, and requests for special accommodations for the NACOSH and NACOSH subgroup meetings must be submitted (postmarked, sent, transmitted) by June 16, 2011.

ADDRESSES: NACOSH and NACOSH Subgroup Meetings: NACOSH and its subgroups will meet in Room N-N4437 A/B/C/D, U.S. Department of Labor, 200 Constitution Avenue, NW., Washington, DC 20210.

Submission of Comments, Requests to Speak and Speaker Presentations: You must submit comments, requests to speak at the NACOSH meeting and speaker presentations, identified by the docket number for this Federal Register notice (Docket No. OSHA-2011-0065), by one of the following methods:

Electronically: You may submit materials, including attachments, electronically at http://www.regulations.gov, the Federal eRulemaking Portal. Follow the online instructions for making submissions.

Facsimile: If your submission, including attachments, does not exceed 10 pages, you may fax it to the OSHA Docket Office at (202) 693-1648.

Mail, Express Delivery, Messenger, or Courier Service: You may submit your materials to the OSHA Docket Office, Room N-2625, U.S. Department of Labor, 200 Constitution Avenue, NW., Washington, DC 20210, telephone (202) 693-2350 (TTY (887) 889-5627). Deliveries (hand, express mail, messenger, courier service) are accepted during the Department of Labor's and OSHA Docket Office's normal business hours, 8:15 a.m. to 4:45 p.m. E.T.

Requests for Special Accommodation: You may submit requests for special accommodations for the NACOSH and NACOSH subgroup meetings by hard copy, telephone, or e-mail to Ms. Veneta Chatmon, OSHA, Office of Communications, Room N-3647, U.S. Department of Labor, 200 Constitution Avenue, NW., Washington, DC 20210; telephone (202) 693-1999; e-mail chatmon.veneta@dol.gov.

Instructions: All submissions must include the Agency name and docket number for this Federal Register notice (Docket No. OSHA-2011-0065). Because of security-related procedures, submission by regular mail may result in significant delay in receipt. Please contact the OSHA Docket Office for information about security procedures for making submissions by hand delivery, express delivery, messenger or courier service. For additional information about submitting comments, requests to speak and speaker presentations see the SUPPLEMENTARY INFORMATION section of this notice.

Comments, requests to speak and speaker presentations, including personal information provided, will be placed in the public docket and may be available online. Therefore, OSHA cautions interested parties about submitting personal information such as social security numbers and birthdates.

FOR FURTHER INFORMATION CONTACT: For Press Inquiries: Mr. Earl Hicks, OSHA, Office of Communications, U.S. Department of Labor, Room N-3647, 200 Constitution Avenue, NW., Washington, DC 20210; telephone (202) 693-1999.

For General Information: Ms. Deborah Crawford, OSHA, Directorate of Evaluation and Analysis, U.S. Department of Labor, Room N-3641, 200 Constitution Avenue, NW., Washington, DC 20210; telephone (202) 693-1932; e-mail crawford.deborah@dol.gov.

SUPPLEMENTARY INFORMATION:

NACOSH Meeting

NACOSH will meet Wednesday, June 22, 2011, in Washington, DC. NACOSH meetings are open to the public.

Section 7(a) of the Occupational Safety and Health Act of 1970 (OSH Act) (29 U.S.C. 651, 656) authorizes NACOSH to advise the Secretary of Labor and the Secretary of Health and Human Services on matters relating to the administration of the OSH Act. NACOSH is a continuing advisory body and operates in compliance with the OSH Act, the Federal Advisory Committee Act (5 U.S.C. App. 2), and regulations issued pursuant to those laws (29 CFR part 1912a, 41 CFR part 102-3).

The tentative agenda of the NACOSH meeting includes:

• Remarks from the Assistant Secretary of Labor for Occupational Safety and Health (OSHA);

• Remarks from the Director of the National Institute for Occupational Safety and Health;

• Discussion with NIOSH and OSHA on Chemical Policy;

• NACOSH subgroup reports;

• Discussion on injury and illness prevention programs with OSHA staff;

• Discussion on recordkeeping issues with OSHA staff; and

• Public comments.

NACOSH meetings are transcribed and detailed minutes of the meetings are prepared. Meeting transcripts and minutes are included in the public record of the NACOSH meeting.

NACOSH Subgroup Meetings

NACOSH established two subgroups, Injury and Illness Prevention Programs and Recordkeeping, at the January 20-21, 2011, NACOSH meeting. Those subgroups will meet from 11 a.m. to 5 p.m., June 21, 2011, in Room N-4437A/B/C and report back to the full committee at the June 22, 2011, NACOSH meeting.

Public Participation

NACOSH and NACOSH subgroup meetings: NACOSH and NACOSH subgroup meetings are open to the public. Any individual attending meetings at the U.S. Department of Labor must enter the building at the Visitors' Entrance, at 3rd and C Streets, NW., and pass through Building Security. Attendees must have valid government-issued photo identification to enter the building. Please contact Ms. Crawford for additional information about building security measures for attending the NACOSH and NACOSH subgroup meetings.

Individuals needing special accommodations to attend NACOSH and NACOSH subgroup meetings should contact Ms. Chatmon.

Submission of Written Comments, Requests to Speak and Speaker Presentations: Interested parties may submit written comments, requests to speak at the NACOSH meeting and speaker presentations by June 16, 2011, using one of the methods listed in the ADDRESSES section. All submissions must include the Agency name and docket number for this Federal Register notice (Docket No. OSHA-2011-0065). OSHA will provide submissions to NACOSH members prior to the meeting.

Requests to speak must state the amount of time requested to speak, the interest the individual represents (e.g., organization name), if any, and a brief outline of the presentation. Electronic speaker presentations (e.g., PowerPoint) must be compatible with PowerPoint 2003 and other Microsoft 2003 formats. Requests to address NACOSH may be granted as time permits and at the discretion of the NACOSH chair.

Because of security-related procedures, submission by regular mail may result in significant delay in receipt. Please contact the OSHA Docket Office for information about security procedures for making submissions by hand delivery, express delivery, messenger or courier service.

Public Docket of the NACOSH Meeting: Comments, requests to speak and speaker presentations, including any personal information you provide, are placed in the public docket of this NACOSH meeting without change and may be available online at http://www.regulations.gov. Therefore, OSHA cautions you about submitting certain personal information such as social security numbers and birthdates.

Meeting transcripts and minutes, subgroup reports and other documents from the NACOSH meeting also are included in the public record of the NACOSH meeting. Although all submissions are listed in the http://www.regulations.gov index, some documents (e.g., copyrighted materials) are not publicly available to read or download through that webpage. All submissions, including copyrighted material, are available for inspection and copying at the OSHA Docket Office.

To read or download documents in the public docket of this NACOSH meeting go to Docket No. OSHA-2011-0065 at http://www.regulations.gov. For information on using http://www.regulations.gov to access the docket, click on the “Help” tab at the top of the Home page. Contact the OSHA Docket Office for information about materials not available through that webpage and for assistance in using the Internet to locate submissions and other documents in the public docket.

Electronic copies of this Federal Register notice are available at http://www.regulations.gov. This notice, as well as news releases and other relevant information, is also available on the OSHA webpage at http://www.osha.gov.

Authority and Signature

David Michaels, PhD, MPH, Assistant Secretary of Labor for Occupational Safety and Health, directed the preparation of this notice under the authority granted by Section 7 of the Occupational Safety and Health Act of 1970 (U.S.C. 656), the Federal Advisory Committee Act (5 U.S.C. App. 2); 29 CFR part 1912a; 41 CFR part 102-3; and Secretary of Labor's Order No. 4-2010 (75 FR 55355, 9/10/2010).

Signed at Washington, DC, on June 1, 2011.
David Michaels,
Assistant Secretary of Labor for Occupational Safety and Health.

[FR Doc. 2011-13901 Filed 6-3-11; 8:45 am]

BILLING CODE 4510-26-P